DEPARTMENT OF COMMERCE

Foreign-Trade Zones Board

[B-49-2017]

Foreign-Trade Zone 241—Fort Lauderdale, Florida; Application for Reorganization (Expansion of Service Area) and Expansion of Subzone 241A Under Alternative Site Framework

An application has been submitted to the Foreign-Trade Zones (FTZ) Board by the City of Fort Lauderdale, grantee of Foreign-Trade Zone 241, requesting authority to reorganize the zone to expand its service area and to expand Subzone 241A on behalf of the Marine Industries Association of South Florida under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the FTZ Board (15 CFR part 400). It was formally docketed on August 2, 2017.

FTZ 241 was approved by the FTZ Board on April 6, 2000 (Board Order 1081, 65 FR 20948, April 19, 2000) and reorganized under the ASF on May 30, 2013 (Board Order 1898, 78 FR 27364, May 10, 2013). The zone currently has a service area that includes the City of Fort Lauderdale and a portion of Broward County, Florida.

The applicant is now requesting authority to expand the service area of the zone to include another portion of Broward County (known as the Dania Cut), as described in the application. If approved, the grantee would be able to serve sites throughout the expanded service area based on companies' needs for FTZ designation. The application indicates that the proposed expanded service area is adjacent to the Port Everglades Customs and Border Protection Port of Entry.

Subzone 241A was approved under the ASF on November 9, 2016 (S-158-2016, sunset 11/30/2019) and currently consists of the following sites in Fort Lauderdale: Site 1 (29.57 acres)—Rahn Bahia Mar Marina, 801 Seabreeze Boulevard; Site 2 (7.88 acres)—Pier Sixty-Six Marina, 2301 SE. 17th Street; Site 3 (4.28 acres)—Hilton Fort Lauderdale Marina, 1881 SE. 17th Street; Site 4 (7.87 acres)—Roscioli Yachting Center, 3201 W. State Road 84; Site 5 (14.79 acres)—Bradford Marine, 3051 W. State Road 84; Site 6 (0.64 acres)—Ward's Marine Electric, 617 SW. 3rd Avenue; Site 7 (68.17 acres)—Lauderdale Marine Center, 2001 SW. 20th Street; Site 8 (0.71 acres)—Frank & Jimmie's Propeller, 280 SW. 6th Street; Site 9 (3.82 acres)—Yacht Management, 3001 W. State Road 84; Site 10 (1.35 acres)—National Marine Suppliers, 2800 SW. 2nd Avenue; Site 11 (2.18 acres)—D.S. Hull # 1, 311 SW. 24th Street; Site 12 (0.62 acres)—D.S. Hull # 2, 3355 SW. 2nd Avenue; and, Site 13 (2.37 acres)—Lauderdale Boat Yard (Naugle), 3100 W. State Road 84.

The applicant is also requesting authority to expand the subzone to include two additional sites under the ASF in the proposed expanded service area: Site 14 (10.30 acres)—760 Taylor Lane, 760 Taylor Lane, Dania Beach; and Site 15 (15.54 acres) Derecktor, 775 Taylor Lane, Dania Beach. A notification of proposed production activity has been submitted and will be published separately for public comment.

In accordance with the FTZ Board's regulations, Qahira El-Amin of the FTZ Staff is designated examiner to evaluate and analyze the facts and information presented in the application and case record and to report findings and recommendations to the FTZ Board.

Public comment is invited from interested parties. Submissions shall be addressed to the FTZ Board's Executive Secretary at the address below. The closing period for their receipt is October 10, 2017. Rebuttal comments in response to material submitted during the foregoing period may be submitted during the subsequent 15-day period to October 23, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Qahira El-Amin at Qahira.El-Amin@trade.gov or (202) 482-5928.

Dated: August 3, 2017.
Andrew McGilvray,
Executive Secretary.

[FR Doc. 2017-16792 Filed 8-8-17; 8:45 am]

BILLING CODE 3510-DS-P